DEPARTMENT OF THE INTERIOR

National Park Service

[N6476; NPS-WASO-NAGPRA-NPS0040984; PPWOCRADN0-PCU00RP14.R50000]

Notice of Inventory Completion: Museum of Indian Arts and Culture, Santa Fe, NM

AGENCY: National Park Service, Interior.

ACTION: Notice.

SUMMARY: In accordance with the Native American Graves Protection and Repatriation Act (NAGPRA), the Museum of Indian Arts and Culture (MIAC) has completed an inventory of associated funerary objects and has determined that there is a cultural affiliation between the associated funerary objects and Indian Tribes or Native Hawaiian organizations in this notice.

DATES: Repatriation of the associated funerary objects in this notice may occur on or after October 14, 2025.

ADDRESSES: Send written requests for repatriation of the associated funerary objects in this notice to Diana Sherman, Museum of Indian Arts and Culture, 7 Old Cochiti Road, Santa Fe, NM 87507, email diana.sherman@dca.nm.gov.

SUPPLEMENTARY INFORMATION: This notice is published as part of the National Park Service's administrative responsibilities under NAGPRA. The determinations in this notice are the sole responsibility of the Museum of Indian Arts and Culture, and additional information on the determinations in this notice, including the results of consultation, can be found in its inventory or related records. The National Park Service is not responsible for the determinations in this notice.

Abstract of Information Available

No human remains have been identified as part of the collection held at MIAC described below. The 550 lots of associated funerary objects include ornaments, groundstone, vessels, faunal remains, stone tools, pipes, unidentified materials, sherds, and lithics. This material was collected from two different sites, LA 190 (Cameron Creek) and LA 19071 (Warm Springs), both in Grant County, NM, and both estimated by archaeologists to date to the Mimbres Classic period (ca. A.D. 1000-1150). Mimbres sites may be affiliated with any of the 19 Pueblos, three Apache Nations, the Hopi Tribe, the Zuni Tribe, or Navajo Nation, based on oral histories, geographical location, archaeological evidence, and the history of repatriation from similar sites.

The material from Cameron Creek was collected between 1923 and 1928 during excavations conducted jointly by a number of institutions, including the School of American Research (now the School for Advanced Research, SAR), the University of Minnesota, the University of New Mexico, and the Museum of New Mexico (of which modern-day MIAC is a part), and led by Wesley Bradfield. The objects recovered from this site were split amongst the participating institutions. Many of the ancestral remains went to the University of Minnesota, while many funerary items and especially whole vessels went to what is now MIAC. Five vessels originally in MIAC's holdings were transferred to the University of Minnesota to be reunited with ancestors in their care in 2024. The remaining Cameron Creek collection is comprised of a total of 513 records, some of which are cataloged together and so will not total the 513 records. The records are: 12 lots of beads, one copper bell, 53 lots of bracelets, one shell ornament, four tinklers, one shell ring, 48 lots of pendants and necklaces, one parrot skeleton, one macaw skeleton, three lots of faunal remains, 225 bowls, one pinch pot, one canteen, 17 pitchers, 46 jars, one plate, nine seed jars, 10 worked sherds, 30 lots of sherds, one strainer, one scoop, two hoes/axes, four choppers, two knives, 18 lithic tools, two stone palettes, three smoking pipes, one ball (material unidentified), three unidentified stone objects, two unidentified ceramic objects, one mixed lot of unworked stone, turquoise, and flakes, and 14 mixed lots of sherds (some worked), whorls, groundstone, lithics, and a pendant. Nine of these items are missing: five bowls, a jar, a necklace, a box of mixed sherds and lithics, and the parrot skeleton. The museum continues to search for these missing items. No item is known to have been treated with hazardous substances.

The Warm Springs material was transferred to MIAC by the School of Advanced Research in the 1970s. Records indicate the items were purchased by a Mrs. A.M. Thompson from various sources in the first part of the 20th century and donated to SAR. This collection contains a total of 37 vessels: 31 bowls, five jars, and a plate. No item is known to have been treated with hazardous substances.

Cultural Affiliation

Based on the information available and the results of consultation, cultural affiliation is reasonably identified by the geographical location or acquisition history of the associated funerary objects described in this notice.

Determinations

The Museum of Indian Arts and Culture has determined that:

• The 550 lots of items described in this notice are reasonably believed to have been placed intentionally with or near individual human remains at the time of death or later as part of the death rite or ceremony.

• There is a connection between the associated funerary objects described in this notice and the Hopi Tribe of Arizona; Mescalero Apache Tribe of the Mescalero Reservation, New Mexico; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Ysleta del Sur Pueblo; and the Zuni Tribe of the Zuni Reservation, New Mexico.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after October 14, 2025. If competing requests for repatriation are received, the Museum of Indian Arts and Culture must determine the most appropriate requestor prior to repatriation. Requests for joint repatriation of the associated funerary objects are considered a single request and not competing requests. The Museum of Indian Arts and Culture is responsible for sending a copy of this notice to the Indian Tribes and Native Hawaiian organizations identified in this notice and any other consulting parties.

Authority: Native American Graves Protection and Repatriation Act, 25 U.S.C. 3003, and the implementing regulations, 43 CFR 10.10.

Dated: August 21, 2025.
Melanie O'Brien,
Manager, National NAGPRA Program.

[FR Doc. 2025-17490 Filed 9-10-25; 8:45 am]

BILLING CODE 4312-52-P